SECURITIES AND EXCHANGE COMMISSION

Roundtable Series on Giving Investors and Analysts Better Financial Data Via Internet

Washington, DC, March 9, 2006—The Securities and Exchange Commission announced today a series of roundtables to be held throughout 2006 at its headquarters in Washington, DC, focused on speeding the implementation of new Internet tools that will help provide investors and analysts with better financial information about companies and funds.

The roundtables will review the experiences from the first year of a pilot program to use so-called interactive data for company filings with the SEC. Interactive data permits Internet users to search for and use individual items of information from financial reports, such as net income, executive compensation, or mutual fund expenses. Today, even computer-based financial information is generally presented in the form of entire pages of data that can't easily be separated. Approximately a dozen companies participated in the voluntary program in its initial year.

The roundtables will also use the lessons learned from the pilot program in order to develop new ways to get analysts and investors significantly better information. Topics will include what investors and analysts are looking for in the new world of interactive data; how to accelerate the use of new software that permits the dissemination of interactive financial data; and how to best design the SEC's requirements for company disclosures to take maximum advantage of the potential of interactive data.

Representatives from investors, issuers, auditors, analysts, technology professionals, regulators, and others will be invited to the roundtable discussions.

The first roundtable in the series will be held on Monday, June 12, from 10 a.m.-noon, and will focus on how best to serve the needs of analysts and investors with interactive data. Subsequent roundtable discussions will be held later in the summer and fall. “It is now within our reach to get dramatically more useful information in the hands of investors,” said SEC Chairman Christopher Cox. “We look forward to these discussions on implementing interactive data initiatives that can benefit investors as quickly as possible, and we welcome the opportunity to learn from investors and other users of financial information how the SEC can improve our own disclosure program.”

The Commission also announced that it is seeking written feedback from investors, registrants, auditors and others on their experiences with interactive data and XBRL The Commission welcomes feedback on any aspect of the use of interactive data. The information that is submitted will become part of the public record of the interactive data roundtables.

Members of the public are encouraged to provide feedback throughout the year as the roundtable topics and dates are announced. Submissions to the Commission may be provided by any of the following methods:

Electronic Submissions

• Use the Commission's Internet submission form at http://www.sec.gov/news/press.shtml; or

• Send an e-mail to rule-comments@sec.gov. Please include File Number 4-515 on the subject line.

Paper Submissions

• Send paper submissions in triplicate to Nancy M. Morris, Secretary, Securities and Exchange Commission, 100 F Street, NE., Washington, DC 20549-1090.

All submissions should refer to File Number 4-515. This file number should be included on the subject line if e-mail is used. To help process and review your submissions more efficiently, please use only one method. The Commission will post all submissions on the Commission's Internet Web site at (http://www.sec.gov/news/press/4-515.shtml). Please note that all submissions received will be posted without change; the SEC does not edit personal identifying information from submissions. You should submit only information that you wish to make available publicly.

Nancy M. Morris,
Secretary.

[FR Doc. E6-3779 Filed 3-15-06; 8:45 am]

BILLING CODE 8010-01-P